ENVIRONMENTAL PROTECTION AGENCY

[ER-FRL-6665-2]

Environmental Impact Statements and Regulations; Availability of EPA Comments

Availability of EPA comments prepared pursuant to the Environmental Review Process (ERP), under section 309 of the Clean Air Act and Section 102(2)(c) of the National Environmental Policy Act as amended. Requests for copies of EPA comments can be directed to the Office of Federal Activities at 202-564-7167. An explanation of the ratings assigned to draft environmental impact statements (EISs) was published in FR dated April 1, 2005 (70 FR 16815).

Draft EISs

EIS No. 20050030, ERP No. D-NPS-K61160-CA, Non-Native Deer Management Plan of Axis Deer (Axis axis) and Fallow Deer (Dama dama), Implementation, Point Reyes National Seashore (PRNS) and Golden Gate National Recreation Area, Marin County, CA.

Summary: EPA had no objections to this project.

Rating LO

EIS No. 20050096, ERP No. D-NRC-F06026-IL, Early Site Permit (ESP) at the Exelon ESP Site, Application for ESP on One Additional Nuclear Unit, within the Clinton Power Station (CPS), NUREG-1815, DeWitt County, IL.

Summary: EPA expressed environmental concerns due to impacts to wetlands and impaired water bodies. EPA also requested clarification of the purpose and need and radiation issues.

Rating EC2

EIS No. 20050105, ERP No. D-AFS-F65050-MI, Huron-Manistee National Forests, Proposed Land and Resource Management Plan, Implementation, Several Counties, MI.

Summary: EPA expressed concerns regarding potential impacts to water quality from the restoration of 58,000 acres of large-scale (500+ acres) clearings and from mining. EPA also requested clarification of potential impacts to wildlife and habitat from the proposed increase in snowmobile trails.

Rating EC2

EIS No. 20050107, ERP No. D-AFS-F65051-IL, Shawnee National Forest Proposed Land and Resource Management Plan Revision, Implementation, Alexander, Gallatin, Hardin, Jackson, Johnson, Massac, Pope, Union and Williamson Counties, IL.

Summary: EPA has no objections to the preferred alternative.

Rating LO

EIS No. 20050113, ERP No. D-BLM-K65439-NV, Sloan Canyon National Conservation Area, Resource Management Plan, Implementation, Cities of Las Vegas and Henderson, Clark County, NV.

Summary: EPA expressed environmental concerns related to mitigation measures and the cumulative impacts analysis for air quality and water resources.

Rating EC2

EIS No. 20050114, ERP No. D-AFS-F65053-IN, Hoosier National Forest Land and Resource Management Plan, Implementation, Brown, Crawford, Dubois, Jackson, Lawrence, Martin, Monroe, Orange, Perry Counties, IN.

Summary: EPA expressed concerns related to early- and late-successional management and the timeline for conversion of non-native pines/restoration of oak-hickory habitat and the seasonal trail closures in the wilderness area.

Rating EC2

EIS No. 20050118, ERP No. D-AFS-F65054-MI, Ottawa National Forest, Proposed Land and Resource Management Plan, Forest Plan Revision, Implementation, Baraga, Gogebic, Houghton, Iron, Marquette and Ontonagan Counties, MI.

Summary: EPA expressed environmental concerns related to potential impacts to water quality and on the management ATVs, deer, and old growth habitat. EPA suggested the final alternative emphasize late successional northern hardwoods and producing an old growth continuous canopy.

Rating EC2

EIS No. 20050128, ERP No. D-AFS-L65480-ID, Porcupine East, 9 Allotment Grazing Analysis Project, Authorizing Livestock Grazing, Caribou-Targhee National Forest, Dubois Ranger District, Centennial Mountains, Clark County, ID.

Summary: EPA expressed environmental concerns related to alternatives, and potential impacts to water quality/source water for drinking water.

Rating EC2

EIS No. 20050134, ERP No. D-AFS-L65481-00, Caribou Travel Plan Revision, Determine the Motorized Road and Trail System, Implementation, Caribou-Targhee National Forest, Westside, Soda Spring and Montpelier Ranger Districts, Bannock, Bear River, Bonneville, Caribou, Franklin, Oneida and Power Counties, ID.

Summary: EPA has concerns with adverse impacts to water quality, air quality and wilderness.

Rating EC2

Final EISs

EIS No. 20050185, ERP No. F-NRC-F03009-MI, Generic—Donald C. Cook Nuclear Plant, Units No. 1 and 2, (TAC No. MC1221 and MC1222) License Renewal, Supplement 20 to NUREG 1437, Berrien County, MI.

Summary: EPA continues to express environmental concerns related to radiological impacts/risk estimates and reducing the entrainment of fish and shellfish in early life stages. EPA recommends that additional information on these issues be included in the Record of Decision.

EIS No. 20050219, ERP No. F-BLM-K65275-00, California Coastal National Monument Resource Management Plan, To Protect Important Biological and Geological Values: Islands, Rocks, Exposed Reefs, and Pinnacles above Mean High Tide, CA, OR, and Mexico.

Summary: EPA has no objections to the proposed plan.

Dated: July 5, 2005.
Ken Mittelholtz,
Environmental Protection Specialist, Office of Federal Activities.

[FR Doc. 05-13468 Filed 7-7-05; 8:45 am]

BILLING CODE 6560-50-P